DEPARTMENT OF LABOR

Employment and Training Administration

[TA-W-73,857]

The Marlin Firearms Company, Inc., a Subsidiary of Remington Arms Company Including On-Site Leased Workers From Randstat, Reitman, and Hamilton Connections, North Haven, Connecticut; Notice of Revised Determination on Remand

On June 8, 2011, the U.S. Court of International Trade (USCIT) granted the U.S. Department of Labor's (Department's) motion for voluntary remand for further investigation in Former Employees of Marlin Firearms Company, Inc., a subsidiary of Remington Arms Company, North Haven, Connecticut v. United States, Case No. 11-00060.

On April 6, 2010, a state workforce official filed a petition for Trade Adjustment Assistance (TAA) on behalf of workers of Marlin Firearms Company, Inc. (“Marlin”), a subsidiary of Remington Arms Company, North Haven, Connecticut (hereafter referred to as the subject firm). The subject worker group includes on-site leased workers from Randstat, Reitman, and Hamilton Connections. (AR 394)

The subject worker group was engaged in activities related to the production of lever-action and bolt-action sporting rifles. (AR 376) The Department considered the following articles to be like or directly competitive with lever-action and bolt-action sporting rifles: “over and under”, “semi-auto”, “over and under shotgun/rifle combo”, “side by side”, “semi-auto”. (AR 805)

During the initial investigation, it was revealed that a significant number or proportion of workers at the subject firm were totally or partially separated from employment or were threatened to become totally or partially separated during the relevant period. (AR 14-15)

However, during the initial investigation, it was determined that imports of articles like or directly competitive with the articles produced by the subject firm have not increased and that there has not been a shift in production to a foreign country by the workers' firm, of like or directly competitive articles. (AR 10-84, 1322-1348)

During the initial investigation, the Department also conducted a customer survey; however, the survey revealed that during the relevant period, customers did not increase reliance on imports of articles like or directly competitive with those produced by the subject worker group. (AR 270-283, 1322-1348)

The initial investigation also revealed that the subject worker group did not produce component parts or supply a service directly to a firm with a TAA-certified worker group. Further, the initial investigation revealed that the subject firm has not been identified in an affirmative finding of injury by the International Trade Commission. (AR 14-15)

A negative determination regarding the subject worker group's eligibility to apply for TAA was issued on December 17, 2010. The Department's Notice of Determination was published in the Federal Register on January 14, 2011 (76 FR 2716). (AR 293-306, 312)

Administrative reconsideration of the Departments' negative determination was not requested.

In the Complaint to the USCIT, dated March 15, 2011, the Plaintiff's Counsel claimed that the Plaintiff's separation occurred because Marlin experienced import competition due to increasing importation of sporting rifles. The Plaintiff's Counsel also claimed that the Department should take into account information related to the application of Marlin for the TAA for Firms program. The Plaintiff's Counsel also claimed that the Department should take into consideration information related to the certification of Marlin's subsidiary, Harrington & Richardson 1871 (TA-W-63,361).

The USCIT'S order granting voluntary remand, dated June 8, 2011, directed the Department to (1) Conduct additional surveys of the subject firm's customers; (2) contact Plaintiff to solicit information relevant to his petition and review any submitted material; (3) request from the subject firm names and contact information for other separated workers and solicit from those workers information relevant to Plaintiff's complaint; (4) request from the subject firm any submissions to the U.S. Department of Commerce in connection with Marlin's certification under the TAA for Firms program and consider the contents of those submissions; (5) request from the U.S. Department of Commerce any documents related to Marlin's certification under the TAA for Firms program and consider the contents of those documents; and (6) consider the facts related to the certification of Harrington & Richardson 1871 (TA-W-63,361).

During the remand investigation, the Department: (1) Conducted an expanded customer survey; (2) contacted the Plaintiff to solicit information relevant to his petition and reviewed the submitted materials; (3) requested and received from the subject firm names and contact information for other separated workers and solicited from those workers information relevant to the Plaintiff's complaint; (4) requested and received from Marlin any submissions to the U.S. Department of Commerce in connection to Marlin's TAA for Firms petition and considered the contents of those documents; (5) requested from the U.S. Department of Commerce any documents related to Marlin's TAA for Firms petition and considered the contents of those documents; and (6) considered the facts related to the certification of TA-W-63,361. The Department also conducted industry analysis related to the articles produced by the subject firm, lever-action and bolt-action sporting rifles. (AR 1322-1348)

The Department fully reviewed all material received during the remand investigation, and considered the contents of each document and statement as they apply to the TAA for workers program in accordance with the statute, regulations, and other authority. (AR 1322-1348)

The group eligibility requirements for workers of a Firm under Section 222(a) of the Act, 19 U.S.C. 2272(a), are satisfied if the following criteria are met:

(1) A significant number or proportion of the workers in such workers' firm have become totally or partially separated, or are threatened to become totally or partially separated; and

(2)(A)(i) The sales or production, or both, of such firm have decreased absolutely; and

(ii)(I) Imports of articles or services like or directly competitive with articles produced or services supplied by such firm have increased; and

(iii) The increase in imports described in clause (ii) contributed importantly to such workers' separation or threat of separation and to the decline in the sales or production of such firm.

In the case at hand, the relevant time periods are April 1, 2009 through April 1, 2010, and the articles at issue are those that are like or directly competitive with the lever-action and bolt-action sporting rifles.

Based on the information collected during the remand investigation, the Department determined that imports of articles like or directly competitive with the lever-action and bolt-action sporting rifles produced by the subject firm increased during the relevant period and contributed importantly to worker separations or threat of separation, and to the decline in production at the subject firm. (AR 14, 15, 389, 531)

Criterion I has been met because a significant number or proportion of workers at the subject firm were totally or partially separated during the relevant period. (AR 14 and 15)

Criterion II has been met because production of lever-action and bolt-action sporting rifles at the subject firm decreased absolutely during the relevant period. (AR 531, 1322-1348)

Criterion III has been met because imports of articles like or directly competitive with the lever-action and bolt-action sporting rifles produced by the subject firm increased during the relevant period and contributed importantly to worker separations, or threat of separations, and to the decline in the production at the subject facility. (AR 14, 15, 389, 531)

Conclusion

After careful review of the complete administrative record, including the additional facts obtained on remand investigation, I determine that workers and former workers of Marlin Firearms Company, Inc., a subsidiary of Remington Arms Company, including on-site leased workers from Randstat, Reitman, and Hamilton Connections, North Haven, Connecticut, who are engaged in employment related to the production of lever-action and bolt- action sporting rifles, meet the worker group certification criteria under Section 222(a) of the Act, 19 U.S.C. 2272(a).

In accordance with Section 223 of the Act, 19 U.S.C. 2273, I make the following certification:

All workers of Marlin Firearms Company, Inc., a subsidiary of Remington Arms Company, including on-site leased workers from Randstat, Reitman, and Hamilton Connections, North Haven, Connecticut, who became totally or partially separated from employment on or after April 1, 2009, through two years from the date of certification, and all workers in the group threatened with total or partial separation from employment on the date of certification through two years from the date of certification, are eligible to apply for adjustment assistance under Chapter 2 of Title II of the Trade Act of 1974, as amended.

Signed at Washington, DC this 7th day of September, 2011.
Del Min Amy Chen,
Certifying Officer, Office of Trade Adjustment Assistance.

[FR Doc. 2011-24363 Filed 9-21-11; 8:45 am]

BILLING CODE P